DEPARTMENT OF JUSTICE

Notice of Lodging of Proposed Consent Decree Under the Clean Air Act

On November 21, 2023, the Department of Justice, along with the Office of the Attorney General of the State of Indiana, lodged a proposed Consent Decree with the United States District Court for the Southern District of Indiana in the lawsuit entitled United States et al. v. Ingredion Inc., Case No. 23-2111.

The proposed Consent Decree settles claims brought under the Clean Air Act by the United States and the State of Indiana, as well as claims brought under state law by the State of Indiana, against Ingredion Incorporated (“Ingredion”) for violating emissions limits and operation and monitoring requirements of Ingredion's air permits (“Title V Permits”) for its wet corn mill facility in Indianapolis, Indiana.

Under the proposed Consent Decree, Ingredion will pay a civil penalty of $1,139,600. The settlement requires Ingredion to install and operate new equipment to meet PM limits that are lower than the plant's current permitted limits. The company completed installation and testing of the new system in advance of this notice. The settlement also requires Ingredion to implement a modernized compliance management system to address repeated operation and monitoring failures at the facility, and hire an independent auditor to verify the effectiveness of the system. Ingredion also committed to mitigating the harm associated with past excess PM emissions by paving onsite unpaved and partially paved roads and parking areas to reduce PM emissions generated by vehicle traffic, which Ingredion completed in advance of this notice. The company will also replace aging railway locomotives at the facility with two modern locomotives that meet emissions standards. As a state supplemental environmental project, the settlement requires Ingredion to contribute $560,400 to the State of Indiana to support Brownfields redevelopment in and around Marion County, Indiana.

The publication of this notice opens a period for public comment on the proposed Consent Decree. Comments should be addressed to the Assistant Attorney General, Environment and Natural Resources Division, and should refer to United States et al. v. Ingredion Inc., 90-5-2-1-12360. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

For a copy of the Consent Decree, please enclose a check or money order for $13 (52 pages at 25 cents per page reproduction cost) payable to the United States Treasury.

Patricia McKenna,
Assistant Section Chief, Environmental Enforcement Section, Environment and Natural Resources Division.

[FR Doc. 2023-26217 Filed 11-27-23; 8:45 am]

BILLING CODE 4410-15-P